DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of September 14, 2015 through October 9, 2015.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
85,939 | IPSCO Tubulars (OK) Inc., IPSCO Tubulars, Inc | Catoosa, OK | April 7, 2014.
85,939A | IPSCO Koppel Tubulars, LLC, IPSCO Tubulars, Inc., Integrated Staffing | Ambridge, PA | April 7, 2014.
85,939B | IPSCO Tubulars (KY) Inc., IPSCO Tubulars, Inc., CM Personnel Services, Randstad, RGP, Robert Half | Wilder, KY | April 7, 2014.
85,939C | IPSCO Tubulars Inc. D/B/A TMK-IPSCO, Employer Flexible, Kelly services, Adecco Engineering, DYSIS | Houston, TX | April 7, 2014.
85,939D | TMK-IPSCO, IPSCO Tubulars, Inc., Sedona Staffing Services | Camanche, IA | April 7, 2014.
85,939E | TMK-IPSCO, IPSCO Tubulars, Inc., Temps Plus Staffing | Blytheville, AR | April 7, 2014.
86,065 | Cliffs Natural Resources, Inc., Tilden Mine | Ishpeming, MI | June 4, 2014.
86,065A | Cliffs Natural Resources, Inc., Empire Mine | Palmer, MI | June 4, 2014.
86,065B | United Talconite, LLC, Cliffs Natural Resources, Inc | Eveleth, MN | June 4, 2014.
86,065C | United Talconite, LLC, Cliffs Natural Resources, Inc | Forbes, MN | June 4, 2014.
86,065D | Hibbing Taconite, Cliffs Natural Resources, Inc | Hibbing, MN | June 4, 2014.
86,065E | Northshore Mining, Cliffs Natural Resources, Inc | Babbitt, MN | June 4, 2014.
86,065F | Northshore Mining, Cliffs Natural Resources, Inc | Silver Bay, MN | June 4, 2014.

The following certifications have been issued. The requirements of Section 222(a)(2)(B) (shift in production or services) of the Trade Act have been met.

TA-W No. | Subject firm | Location | Impact date
85,039 | Freescale Semiconductor, Inc., Digital Networking PE/TE Division | Austin, TX | January 28, 2013.
85,123 | Elsevier, Inc., Randstad Staffing | San Diego, CA | December 10, 2013.
85,123A | Populous Group, Elsevier, Inc | San Diego, CA | March 5, 2013.
85,203 | Citigroup Technology, Inc., Citigroup Banking, Enterprise Operations, etc | Tampa, FL | April 2, 2013.
85,277 | Aegis Media Americas, Dentsu Holdings USA, Inc., Shared Services, Solomon Page Technology Partners | Boston, MA | April 8, 2013.
85,294 | Pitney Bowes, Inc., Billing, Collections and Leasing Department | Spokane, WA | April 23, 2013.
85,386 | Covidien LP, Information Services Division | Mansfield, MA | June 19, 2013.
85,491 | Citibank North America, Institutional Clients Group, Technology, Securities, etc | Jersey City, NJ | August 15, 2013.
85,551 | Harte Hanks Market Intelligence, Inc., Sedona Staffing, Adecco, Manpower, and Tristaff | San Diego, CA | September 24, 1934.
85,674 | Levi Strauss &amp; Company | Eugene, OR | November 25, 2013.
85,702 | JP Morgan Chase &amp; Company, Technology Paysource | Lowell, MA | November 5, 2013.
85,749 | St. Thomas Medical Group, Nashville Healthcare Solutions | Nashville, TN | December 31, 2013.
85,946 | Exos, DJO LLC, TargetCW, Aerotek Commercial Staffing, and The Right Staff | Arden Hills, MN | April 16, 2014.
86,048 | Spirit AeroSystems, Inc., Spirit AeroSystems Holdings, Inc., Zero Chaos | Tulsa, OK | May 29, 2014.
86,062 | Chromalloy Southwest, Sequa Corporation | Calexico, CA | June 3, 2014.
86,073 | Norwich Aero Products, Esterline Technologies, Staffworks, Consolidated Personnel Services (CPS) | Norwich, NY | June 5, 2014.
86,087 | Horton Automatics, Overhead Door Corporation, Remedy Intelligent Staffing | Corpus Christi, TX | June 16, 2014.
86,087A | Adecco—Working on Site at Horton Automatics, Overhead Door Corporation | Corpus Christi, TX | June 10, 2014.
86,088 | Breg, Inc., Orthopedic Group, Aerotek and Diversified Solutions | Grand Prairie, TX | June 9, 2014.
86,109 | Nortek Air Solutions, Mammoth Division, Manpower | Springfield, MO | June 9, 2014.
86,128 | QBE Americas, Inc., QBE Holdings, Adecco, Aerotek, Digital Intelligence Systems LLC, etc | Moon Township, PA | June 19, 2014.
86,136 | Verizon, Voice Over Internet Protocol (COIP) Order Management | Lake Mary, FL | June 26, 2014.
90,000 | Genpact WB LLC, Adecco, Kelly Services and Manpower, Genpact LLC | Wilkes Barre, PA | January 1, 2014.
90,003 | QBE Americas, Inc., QBE Holdings, Inc., Finance Department | New York, NY | January 1, 2014.
90,012 | Medical Information Management Solutions, LLC, Corporate Job Bank and Perfect Placement Services | Phoenix, AZ | January 1, 2014.
90,028 | Mondelez International, Customer Service &amp; Logistics Operations Client Service Group | Wilkes Barre, PA | July 20, 2015.
90,028A | On-Site Leased Workers from Axelon, Collabera, IAB Solutions LLC, Kelly Services, Sunrise Systems, Inc., etc | Wilkes Barre, PA | January 1, 2014.
90,046 | ConMed, Froomeng, Engenious Design LLC, AG Engineering LLC, Evergreen, Aerotek | Centennial, CO | January 1, 2014.
90,064 | Office Depot, Inc., OfficeMax | Ottawa, IL | January 1, 2014.
90,068 | Office Depot, Inc., OfficeMax | Peru, IL | January 1, 2014.
90,076 | Office Depot, Inc., OfficeMax | Bristol, VA | January 1, 2014.

The following certifications have been issued. The requirements of Section 222(b) (supplier to a firm whose workers are certified eligible to apply for TAA) of the Trade Act have been met.

TA-W No. | Subject firm | Location | Impact date
86,082 | AA Gear and Manufacturing, Inc., Formerly Known as PL Holdings, Inc | Howell, MI | June 9, 2014.
86,083 | Magnetation LLC, Plant 1 | Keewatin, MN | June 9, 2014.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
85,477 | AT&T Mobility Services LLC, AT&T Mobility II LLC | Atwater, CA |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
86,115 | GGS Information Services | Erie, PA |

The following determinations terminating investigations were issued because the petitioning groups of workers are covered by active certifications. Consequently, further investigation in these cases would serve no purpose since the petitioning group of workers cannot be covered by more than one certification at a time.

TA-W No. | Subject firm | Location | Impact date
85,948 | Syncreon Technology (America), Inc., Express Employment Professionals | Allentown, PA |

I hereby certify that the aforementioned determinations were issued during the period of August 25, 2015 through September 11, 2015. These determinations are available on the Department's Web site www.tradeact/taa/taa_search_form.cfm under the searchable listing of determinations or by calling the Office of Trade Adjustment Assistance toll free at 888-365-6822.

Signed at Washington, DC, this 15th day of October 2015.
Hope D. Kinglock,
Certifying Officer, Office of Trade Adjustment Assistance.

[FR Doc. 2015-27452 Filed 10-27-15; 8:45 am]

BILLING CODE 4510-FN-P